DEPARTMENT OF COMMERCE

National Oceanic and Atmospheric Administration

RIN 0648-XG243

Endangered and Threatened Species; Take of Anadromous Fish

AGENCY: National Marine Fisheries Service (NMFS), National Oceanic and Atmospheric Administration (NOAA), Commerce.

ACTION: Notice. Applications for two new scientific research permits and one scientific research permit modification.

SUMMARY: Notice is hereby given that NMFS has received three scientific research permit application requests relating to Pacific salmon and steelhead. The proposed research is intended to increase knowledge of species listed under the Endangered Species Act (ESA) and to help guide management and conservation efforts. The applications may be viewed online at: https://apps.nmfs.noaa.gov/preview/preview_open_for_comment.cfm.

DATES: Comments or requests for a public hearing on the applications must be received at the appropriate address or fax number (see ADDRESSES) no later than 5 p.m. Pacific standard time on June 18, 2018.

ADDRESSES: Written comments on the applications should be sent to the Protected Resources Division, NMFS, 1201 NE Lloyd Blvd., Suite 1100, Portland, OR 97232-1274. Comments may also be sent via fax to 503-230-5441 or by email to nmfs.nwr.apps@noaa.gov (include the permit number in the subject line of the fax or email).

FOR FURTHER INFORMATION CONTACT: Rob Clapp, Portland, OR (ph.: 503-231-2314), Fax: 503-230-5441, email: Robert.Clapp@noaa.gov). Permit application instructions are available from the address above, or online at https://apps.nmfs.noaa.gov.

SUPPLEMENTARY INFORMATION:

Species Covered in This Notice

The following listed species are covered in this notice:

Chinook salmon (Oncorhynchus tshawytscha): Threatened Upper Willamette River (UWR).

Coho salmon (O. kisutch): Threatened Oregon Coast (OC).

Steelhead (O. mykiss): Threatened Lower Columbia River (LCR); threatened UWR.

Authority

Scientific research permits are issued in accordance with section 10(a)(1)(A) of the ESA (16 U.S.C. 1531 et seq.) and regulations governing listed fish and wildlife permits (50 CFR parts 222-226). NMFS issues permits based on findings that such permits: (1) Are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1135-10M

The United States Geological Survey (USGS) is seeking to modify a permit that currently authorizes them to take juvenile LCR steelhead in the Wind River subbasin (Washington). The permit would expire on December 31, 2021. The purpose of the study is to provide information on growth, survival, habitat use, and life histories of LCR steelhead. This information would improve understanding of habitat associations and life history strategies for LCR steelhead in the Wind River and that, in turn, would help state, tribal, and Federal efforts to restore LCR steelhead. This information would benefit LCR steelhead by improving our understanding of habitat associations and life history strategies in the Wind River. This new information would, in turn, help state, tribal, and Federal efforts to restore LCR steelhead.

The USGS proposes to capture juvenile LCR steelhead using backpack electrofishing equipment, hold the fish in aerated buckets, anesthetize them with MS-222, measure length and weight, tag age-0 and age-1 fish with passive integrated transponders (PIT-tags), and release all fish at the site of collection after they recover from anesthesia. The permit modification would not change the methods or scope of the ongoing research except to increase the take of juvenile LCR steelhead that are captured, handled, and then released without PIT-tagging from 2,500 to 4,500 fish annually. The USGS also requests to increase the unintentional mortalities authorized for fish that are released without PIT-tagging, from 75 to 135 fish annually. The USGS requests this increase in take because they captured unusually high numbers of age-0 LCR steelhead in 2017. The researchers do not propose to kill any fish but a small number may die as an unintended result of research activities.

Permit 21837

Researchers at the Oregon State University are requesting a permit that would allow them to take juvenile and adult UWR Chinook salmon and UWR steelhead. The research permit would expire on December 31, 2022. The researchers propose to work in the upper Willamette River (Oregon) and its tributaries including the Middle Fork Willamette, Coast Fork Willamette, Calapooia, Long Tom, Marys, and Luckiamute Rivers. The purpose of their research is to describe how water temperature and the presence of coldwater refugia influence the behavior, growth, diet, body condition, seasonal movements, and habitat associations of coastal cutthroat trout. The research would provide information to help fisheries managers prioritize conservation and management efforts in the context of climate change. The research would benefit UWR Chinook salmon and UWR steelhead by providing information on how a salmonids with similar ecological requirements—coastal cutthroat trout—adapt to increasing water temperatures. This new information would help fisheries managers prioritize conservation and management efforts in the context of climate change.

The researchers propose to capture fish using boat and backpack electrofishing, stick and beach seining, and angling. The researchers would identify fish immediately after capture and hold them in cool, aerated buckets. The researchers propose to hold ESA-listed fish only long enough to avoid recapturing them. They would release the fish to the site of capture, with no further handling or measurements, as soon as they complete sampling at a site. The researchers propose the following measures to minimize take of adult UWR Chinook and UWR steelhead for each sampling date: (1) Request current information from the Oregon Department of Fish and Wildlife on adult run timing and distribution, (2) conduct visual reconnaissance surveys before sampling each site, and (3) avoid sampling in areas where adult salmonids are likely to hold, such as pools, glides, and tributary junctions. If researchers observe adult salmon or steelhead, the researchers would immediately stop sampling and leave the site. The researchers would not seine a single site more than five times or electrofish a single site more than three times across the summer sampling season. The researchers do not propose to kill any fish but a small number of juveniles may die as an unintended result of research activities.

Permit 22069

The Oregon Department of Fish and Wildlife (ODFW) is requesting a permit that would allow them to take OC coho in the Tillamook Bay (Oregon). The research permit would expire on December 31, 2022. ODFW proposes to conduct a radio telemetry study of OC fall-run Chinook salmon, which are not ESA-listed. Researchers may unintentionally take OC coho salmon while collecting Chinook salmon. The goal of the research study is to improve information on the distribution and abundance of Chinook spawners in the Tillamook basin. The OC Chinook salmon ESU is subject to management under the Pacific Salmon Treaty, which calls for use of abundance-based management. Information on the distribution of spawning OC Chinook in the Tillamook basin is essential for developing an efficient and cost effective program to monitor Chinook spawner abundance. In addition, this research would benefit ESA-listed salmonids by demonstrating and improving methods for capturing and tagging fish in a large bay setting, and tracking spawner movement into multiple geographic strata.

The ODFW proposes to capture fish from August through December in the lower portion of Tillamook Bay, below the mouths of the five primary Chinook spawning streams that flow into the bay. ODFW proposes to capture juvenile and adult OC coho using angling, seines, and tangle nets. The nets would have a nylon mesh size of 4.5 inches and range from 75 to 150 feet in length and 8 to 20 feet in depth, dependent upon water levels and sampling conditions. To minimize stress and injury of fish captured using tangle nets, the researchers propose to: (1) Observe nets constantly during deployment, (2) remove fish immediately upon detection of capture (i.e., typically less than two minutes after entanglement), and (3) relocate tangle nets if a coho is captured or if any fish is recaptured on the same day. ODFW proposes to identify fish upon capture, and immediately release any coho salmon without further handling. The researchers do not propose to kill any fish but a small number may die as an unintended result of the activities.

This notice is provided pursuant to section 10(c) of the ESA. NMFS will evaluate the applications, associated documents, and comments submitted to determine whether the applications meet the requirements of section 10(a) of the ESA and Federal regulations. The final permit decisions will not be made until after the end of the 30-day comment period. NMFS will publish notice of its final action in the Federal Register.

Dated: May 15, 2018.
Angela Somma,
Chief, Endangered Species Division, Office of Protected Resources, National Marine Fisheries Service.

[FR Doc. 2018-10655 Filed 5-17-18; 8:45 am]

BILLING CODE 3510-22-P